DEPARTMENT OF COMMERCE

National Oceanic and Atmospheric Administration

RIN 0648-XA48

Fisheries of the Exclusive Economic Zone off Alaska; Application for an Exempted Fishing Permit

AGENCY: National Marine Fisheries Service (NMFS), National Oceanic and Atmospheric Administration (NOAA), Commerce.

ACTION: Notice; receipt of an application for an exempted fishing permit.

SUMMARY: This notice announces receipt of an application for an exempted fishing permit (EFP) from Alaska Groundfish Data Bank. If granted, the EFP would allow the applicants to explore electronic monitoring (EM) as a tool for monitoring halibut discards and estimating amounts of halibut discarded. This project is intended to promote the objectives of the Fishery Management Plan for Groundfish of the Gulf of Alaska (FMP) and National Standard 9 of the Magnuson-Stevens Fishery Conservation and Management Act (Magnuson-Stevens Act). Comments will be accepted at the June 4-12 North Pacific Fishery Management Council (Council) meeting in Sitka, AK.

DATES: Interested persons may comment on the EFP application during the Council's June 4-12, 2007, meeting in Sitka, AK.

ADDRESSES: The Council meeting will be held at Centennial Hall, 330 Harbor Drive, Sitka, AK.

Copies of the EFP application and the environmental assessment (EA) are available by writing to the Alaska Region, NMFS, P.O. Box 21668, Juneau, AK 99802, Attn: Ellen Sebastian. The application and EA also are available from the Alaska Region, NMFS website at http://www.fakr.noaa.gov.

FOR FURTHER INFORMATION CONTACT: Jason Anderson, 907-586-7228 or jason.anderson@noaa.gov.

SUPPLEMENTARY INFORMATION: NMFS manages the domestic groundfish fisheries in the Gulf of Alaska (GOA) under the FMP. The North Pacific Fishery Management Council (Council) prepared the FMP under the Magnuson-Stevens Act. Regulations governing the groundfish fisheries of the GOA appear at 50 CFR parts 600 and 679. The FMP and the implementing regulations at §§ 679.6 and 600.745(b) authorize issuance of EFPs to allow fishing that would be otherwise prohibited. Procedures for issuing EFPs are contained in the implementing regulations.

NMFS received an EFP application from Alaska Groundfish Data Bank on April 30, 2007. The primary objectives of the proposed EFP are to 1) test the feasibility of using video to monitor halibut discards at a single location on catcher vessels, 2) estimate the amount of halibut discarded at this location, and 3) assess the costs associated with collecting and reviewing EM data. The applicants developed the EFP in cooperation with NMFS scientists at the Alaska Fisheries Science Center (AFSC). The AFSC approved the EFP scientific design on May 2, 2007. The project is intended to provide information needed by the Council and NMFS to inform decisions on future management actions in the Gulf of Alaska rockfish fisheries. Specifically, the project would assess whether NMFS can relax recently increased observer coverage requirements implemented under the Central GOA rockfish pilot program (Program) on catcher vessels that employ EM.

Background

NMFS issued a final rule to implement the Program on November 20, 2006 (71 FR 67210). Program development was initiated by trawl industry representatives, primarily from Kodiak, Alaska, in conjunction with catcher/processor representatives. They sought to improve the economic efficiency of Central GOA rockfish fisheries by developing a program that establishes cooperatives that receive exclusive harvest privileges for a specific set of rockfish species, and for associated species harvested incidentally to those rockfish in the Central GOA. Participants in the program include the catcher vessel, onshore processing, and offshore catcher/processor sectors.

NMFS, Sustainable Fisheries Division, consulted with the Council, members of the industry, NMFS Office of Law Enforcement, NOAA General Counsel, and the U.S. Coast Guard to design a monitoring program to increase data quality for total catch reporting. As part of that monitoring program, observer coverage was increased on many catcher vessels to 100 percent (one observer at all times). Industry is concerned that costs associated with increased observer coverage are high relative to the increased revenue associated with the Program. To address these concerns, Alaska Groundfish Data Bank developed, in conjunction with staff at the AFSC and NMFS Alaska Region, an alternative approach to manage shoreside rockfish fisheries that could include the use of EM to replace increased observer coverage.

Rockfish fishing for the major target species in the Program (Pacific ocean perch, northern rockfish, and pelagic shelf rockfish) is relatively selective in terms of the percentage of catch that is rockfish. Additionally, retention rates are high relative to flatfish and other GOA target fisheries. Selective fisheries where a high fraction of the catch is retained are logical candidates for reliance on shoreside sampling as the primary fishery data collection point, and EM to monitor and account for at-sea discards.

Under the EFP, halibut are proposed to be the only species allowed to be discarded at sea. Further, discarding would only be allowed at a single, specially designed discard chute. The vessel would be fitted with several cameras designed to assess whether video can adequately detect all discard activities. The discard chute would be modified to retain all discarded halibut. Data on total halibut discarded would be compared against EM data to determine its effectiveness.

Additionally, the discard chute would be equipped with cameras to obtain individual halibut length data. The weight of each halibut would be estimated based on the International Pacific Halibut Commission length-to-weight table, and a total halibut removal weight would be calculated for each haul.

If successful and feasible, catch accounting data of all non-halibut species could thus be obtained during deliveries to shoreside plants, and at-sea halibut discards could be estimated through this specialized application of EM. Information gathered during this project could assist the Council in developing future monitoring protocols for all North Pacific fisheries.

To support this EFP, an allocation of rockfish and associated bycatch species in addition to those allocated under the Program is proposed. Groundfish and halibut amounts required are listed in the table below:

Species | Amount (mt)
arrowtooth flounder | 34
halibut | 12
northern rockfish | 88
Pacific cod | 42
pelagic shelf rockfish | 52
Pacific ocean perch | 145
sablefish | 26
shortraker/rougheye rockfish | 1
thornyhead rockfish | 4
other | 8
total | 412

The project would begin September 15, 2007, and continue until either the halibut mortality limit is reached or 30 hauls (5 to 7 individual trips) are completed. Additionally, NMFS may consider extending the EFP to allow additional testing in the following year, if needed. Fishing would occur in the Central GOA.

The EFP would exempt the applicant from Central GOA directed fishing closures implemented under §§ 679.20, 679.21, 679.23 or 679.25 for reasons other than overfishing. The EFP would allow for the harvest of up to 400 mt of groundfish species. The EFP would exempt the applicant from the requirements of the Program under §§ 679.4(n), 679.5(r) and 679.7(n).

Because the participating vessel would be carrying at-sea samplers, the EFP would exempt the applicant from regulations requiring observers to be onboard the vessel. Specifically, the permit would exempt the applicant from §§ 679.50, 679.7(a)(3), 679.7(g) while the experiment is being conducted.

Halibut mortality from this project would not be applied against the halibut prohibited species catch (PSC) limits allocated to the Central GOA trawl fishery or to the prohibited species quota limits in the Program. The proposed EFP would exempt a vessel from halibut PSC limits at § 679.21(d)(3) and allow up to 12 mt of halibut mortality associated with fishing under this project.

The vessel would be exempted from maximum retainable amount (MRA) regulations at § 679.20(e) and Table 10 to 50 CFR part 679. Additional discards occurring during the experiment would hamper the ability of reviewers to determine whether or not all halibut were retained. It is highly unlikely that discard above the MRA would be required.

These exemptions are necessary to allow the permit holder to 1) effectively test the feasibility of using video to monitor for halibut discards at a single location on the catcher vessel, 2) estimate the amount of halibut discarded at this location, and 3) assess the costs of collecting and reviewing EM data. Information gathered during this proposed EFP could be used by the Council to develop future monitoring protocols for all North Pacific fisheries

The applicant will present draft results of the project to members of the industry in Kodiak, Alaska. Additionally, the applicant, in conjunction with NMFS staff involved with the project, would present the draft findings to the Council and its advisory bodies at a meeting convenient to the Council. The applicant also would be responsible for providing the final report to the interested public once that report has been reviewed by the Council and its advisory bodies.

In accordance with § 600.745(b) and § 679.6, NMFS has determined that the proposal warrants consideration and has initiated consultation with the Council. The Council will consider the EFP application during its meeting in Sitka, AK, from June 4-12, 2007. The applicant has been invited to appear in support of the application.

Public Comments

Interested persons may comment on the application at the June 2007 Council meeting during public testimony. Information regarding the meeting is available at 72 FR 26606 (May 10, 2007) and on the Council's website at http://www.fakr.noaa.gov/npfmc/council.htm.

Authority: 16 U.S.C. 1801 et seq.

Dated: May 21, 2007.
James P. Burgess,
Acting Director, Office of Sustainable Fisheries, National Marine Fisheries Service.

[FR Doc. E7-10020 Filed 5-23-07; 8:45 am]

BILLING CODE 3510-22-S